DEPARTMENT OF TRANSPORTATION

Federal Aviation Administration

Notice of Intent of Waiver With Respect to Land; Rantoul National Aviation Center—Frank Elliott Field, Rantoul, IL

AGENCY: Federal Aviation Administration (FAA), DOT.

ACTION: Notice.

SUMMARY: The FAA is considering a proposal to change 109.91 acres of airport land from aeronautical use to non-aeronautical use and to authorize the sale of airport property located at Rantoul National Aviation Center—Elliott Field, Rantoul, IL. The aforementioned land is not needed for aeronautical use. The subject parcels (13 in total) are located in the western half of the airport, all being west of Runway 18/36, south of Urbana Avenue, east of Century Boulevard, and north of Township Highway 154 S. Many of the subject parcels have old industrial buildings that supported the United States military mission (Chanute Air Force Base) and now are in a state of disrepair. The proposed sale would allow the cost of the repair and maintenance of these old structures to be transferred to the buyers of the parcels and the proceeds of the sale to be used for airport purposes. The parcels would be used for non-aeronautical purposes that are compatible with airport operations.

DATES: Comments must be received on or before October 18, 2024.

ADDRESSES: All requisite and supporting documentation will be made available for review by appointment at the FAA Chicago Airports District Office, Azra Hussain, Program Manager, 2300 E. Devon Ave, Des Plaines, IL 60018 Telephone: (847) 294-7315/Fax: (847) 294 -7046 and Illinois Department of Transportation—Division of Aeronautics, 1 Langhorne Bond Drive, Springfield, IL 62707—8415.

Written comments on the Sponsor's request may be submitted using any of the following methods:

• Federal eRulemaking Portal: Go to http://www.regulations.gov, and follow the instructions for sending your comments electronically.

• Mail: Azra Hussain, Program Manager, Federal Aviation Administration, Chicago Airports District Office, 2300 E. Devon Ave, Des Plaines, IL 60018.

• Hand Delivery: Deliver to mail address above between 8 a.m. and 5 p.m. Monday through Friday, excluding Federal holidays.

• Fax: (847) 294-7046.

FOR FURTHER INFORMATION CONTACT: Azra Hussain, Program Manager, Federal Aviation Administration, Chicago Airports District Office, 2300 E. Devon Ave, Des Plaines, IL 60018. Telephone Number: (847) 294-7340/FAX Number: (847) 294-7046.

SUPPLEMENTARY INFORMATION: In accordance with section 47107(h) of title 49, United States Code, this notice is required to be published in the Federal Register 30 days before modifying the land-use assurance that requires the property to be used for an aeronautical purpose.

The subject property is currently not needed for aeronautical purposes, nor are there future plans for aeronautical use. Portions of the land proposed for release and disposal were originally transferred by quitclaim deed to the Village of Rantoul (on July 23, 2007 for Parcel A2d-1; on August 12, 2007 for Parcels A2c-3a, A2c-3b, A2c-3c, A2d-2 and 802; and on March 6, 2008 for Parcels A1b-6, A2b-1, A2b-2, and A2b-3a), by and between the United States of America, acting by and through the Secretary of the Air Force, under and pursuant to the powers and authority of the Defense Base Closure and Realignment Acts of 1988 and 1990 (10 U.S.C. 2687 note), as amended; Article 4, section 3, clause 2 of the Constitution of the United States; the provisions of the Federal Property and Administrative Services Act of 1949 (40 U.S.C. subtitle I, chapters 1 and 5), as amended, and related promulgated regulations and orders, and the Surplus Property Act of 1944 (50 U.S.C. app. sec. 1622(g), as amended, repealed and recodified without substantive change at 49 U.S.C. 47151-47153); and related promulgated regulations and orders. The remaining parcels were transferred by quitclaim deed to the Village of Rantoul (on July 9, 2018 for Parcel A1b-3:2, and on August 17, 2018 for Parcels A2c-7:1 and A2c-7:2), by and between the United States of America, acting by and through the Secretary of the Air Force, under and pursuant to the powers and authority contained in the Base Closure and Realignment Act of 1988, Public Law 100-526, as amended (10 U.S.C. 2687 note), and delegations and regulations promulgated thereunder. The Village of Rantoul plans to sell the subject property at fair market value to reduce annual expenditures required for repair and maintenance of existing non-aeronautical buildings.

The disposition of proceeds from the sale of the airport property will be in accordance with FAA's Policy and Procedures Concerning the Use of Airport Revenue, published in the Federal Register on February 16, 1999 (64 FR 7696).

This notice announces that the FAA is considering the release of the subject airport property at the Rantoul National Aviation Center—Elliott Field, Rantoul, IL from federal land covenants, subject to a reservation for continuing right of flight as well as restrictions on the released property as required in FAA Order 5190.6B section 22.16. Approval does not constitute a commitment by the FAA to financially assist in the disposal of the subject airport property nor a determination of eligibility for grant-in-aid funding from the FAA.

The legal descriptions (metes and bounds) of the subject 13 land parcels are as follow:

Parcel A1b-6

A TRACT OF LAND BEING PART OF SECTION 2, TOWNSHIP 21 NORTH, RANGE 9 EAST OF THE THIRD PRINCIPAL MERIDIAN, CHAMPAIGN COUNTY, ILLINOIS, DESCRIBED AS FOLLOWS, WITH BEARINGS REFERENCED TO THE ILLINOIS STATE PLANE COORDINATE SYSTEM-EAST ZONE:

COMMENCING AT AN IRON PIN AT THE NORTHWEST CORNER OF THE SOUTHEAST QUARTER OF SAID SECTION 2, PROCEED NORTH 89 DEGREES 39 MINUTES 02 SECONDS EAST ALONG THE NORTH LINE OF SAID SOUTHEAST QUARTER, 24.16 FEET; THENCE SOUTH 00 DEGREES 45 MINUTES 46 SECONDS EAST, 100.00 FEET TO THE POINT OF BEGINNING; THENCE NORTH 89 DEGREES 39 MINUTES 02 SECONDS EAST ALONG A LINE BEING PARALLEL WITH SAID NORTH LINE OF THE SOUTHEAST QUARTER, 290.67 FEET; THENCE SOUTH 07 DEGREES 05 MINUTES 20 SECONDS EAST, 191.02 FEET; THENCE AROUND THE ARC OF A CIRCULAR CURVE TO THE RIGHT, HAVING A RADIUS OF 500.00 FEET, A CHORD LENGTH OF 27.11 FEET, A CHORD BEARING OF SOUTH 88 DEGREES 29 MINUTES 31 SECONDS WEST FOR AN ARC LENGTH OF 27.11 FEET; THENCE TANGENT SOUTH 89 DEGREES 59 MINUTES 14 SECONDS WEST, 180.73 FEET; THENCE AROUND THE ARC OF A CIRCULAR CURVE TO THE LEFT, HAVING A RADIUS OF 600.00 FEET, A CHORD LENGTH OF 87.27 FEET, A CHORD BEARING OF SOUTH 85 DEGREES 48 MINUTES 04 SECONDS WEST FOR AN ARC LENGTH OF 87.35 FEET; THENCE NORTH 12 DEGREES 58 MINUTES 03 SECONDS WEST, 27.26 FEET; THENCE AROUND THE ARC OF A CIRCULAR CURVE TO THE RIGHT, HAVING A RADIUS OF 500.00 FEET, A CHORD LENGTH OF 104.67 FEET, A CHORD BEARING OF NORTH 06 DEGREES 48 MINUTES 18 SECONDS WEST FOR AN ARC LENGTH OF 104.86 FEET; THENCE NORTH 00 DEGREES 45 MINUTES 46 SECONDS WEST, 64.44 FEET TO THE POINT OF BEGINNING, ENCOMPASSING 1.296 ACRES MORE OR LESS:

Parcel A2b-2

A TRACT OF LAND BEING PART OF SECTION 2, TOWNSHIP 21 NORTH, RANGE 9 EAST OF THE THIRD PRINCIPAL MERIDIAN, CHAMPAIGN COUNTY, ILLINOIS, DESCRIBED AS FOLLOWS, WITH BEARINGS REFERENCED TO THE ILLINOIS STATE PLANE COORDINATE SYSTEM-EAST ZONE:

COMMENCING AT AN IRON PIN AT THE NORTHEAST CORNER OF THE SOUTHWEST QUARTER OF SAID SECTION 2, PROCEED SOUTH 89 DEGREES 38 MINUTES 35 SECONDS WEST, ALONG THE NORTH LINE OF SAID SOUTHWEST QUARTER, 78.85 FEET; THENCE SOUTH 0 DEGREES 46 MINUTES 35 SECONDS EAST, 100.00 FEET TO THE TRUE POINT OF BEGINNING; THENCE SOUTH 0 DEGREES 46 MINUTES 35 SECONDS EAST, 65.18 FEET; THENCE AROUND THE ARC OF A TANGENT CIRCULAR CURVE TO THE LEFT HAVING A RADIUS OF 600.00 FEET, A CHORD LENGTH OF 125.60 FEET, A CHORD BEARING OF SOUTH 06 DEGREES 47 MINUTES 04 SECONDS EAST FOR AN ARC LENGTH OF 125.83 FEET; THENCE SOUTH 12 DEGREES 47 MINUTES 32 SECONDS EAST, 27.87 FEET; THENCE AROUND THE ARC OF A NON-TANGENT CIRCULAR CURVE TO THE LEFT HAVING A RADIUS OF 600.00 FEET, A CHORD LENGTH OF 87.66 FEET, A CHORD BEARING OF SOUTH 67 DEGREES 53 MINUTES 36 SECONDS WEST FOR AN ARC LENGTH OF 87.74 FEET; THENCE AROUND THE ARC OF A TANGENT CIRCULAR CURVE TO THE RIGHT HAVING A RADIUS OF 500.00 FEET, A CHORD LENGTH OF 224.47 FEET, A CHORD BEARING OF SOUTH 76 DEGREES 40 MINUTES 30 SECONDS WEST FOR AN ARC LENGTH OF 226.40 FEET; THENCE TANGENT SOUTH 89 DEGREES 38 MINUTES 45 SECONDS WEST, 781.66; THENCE NORTH 44 DEGREES 13 MINUTES 29 SECONDS EAST, 140.39 FEET; THENCE SOUTH 89 DEGREES 38 MINUTES 45 SECONDS WEST, 851.06 FEET; THENCE NORTH 67 DEGREES 35 MINUTES 31 SECONDS WEST, 61.48 FEET; THENCE NORTH 0 DEGREES 33 MINUTES 27 SECONDS WEST, 176.20 FEET; THENCE NORTH 89 DEGREES 38 MINUTES 35 SECONDS EAST PARALLEL WITH SAID NORTH LINE OF THE SOUTHWEST QUARTER, 766.36 FEET; THENCE NORTH 0 DEGREES 21 MINUTES 32 SECONDS WEST, 60.00 FEET; THENCE NORTH 89 DEGREES 38 MINUTES 35 SECONDS EAST PARALLEL WITH SAID NORTH LINE OF THE SOUTHWEST QUARTER, 700.04 FEET; THENCE SOUTH 0 DEGREES 23 MINUTES 10 SECONDS EAST, 60.00 FEET; THENCE NORTH 89 DEGREES 38 MINUTES 5 SECONDS EAST PARALLEL WITH SAID NORTH LINE OF THE SOUTHWEST QUARTER, 404.69 FEET TO THE TRUE POINT OF BEGINNING, ENCOMPASSING 11.719 ACRES MORE OR LESS.

Parcel A1b-3:2

A TRACT OF LAND BEING PART OF SECTION 11, TOWNSHIP 21 NORTH, RANGE 9 EAST OF THE THIRD PRINCIPAL MERIDIAN, CHAMPAIGN COUNTY, ILLINOIS, DESCRIBED AS FOLLOWS:

COMMENCING AT A RANTOUL BRASS MONUMENT FOUND STAMPED “RANTOUL SURVEY MONUMENT IPLS 2280” FOUND AT THE INTERSECTION OF THE SOUTHEASTERLY RIGHT-OF-WAY LINE OF GALAXY DRIVE AND THE NORTHEASTERLY RIGHT-OF-WAY LINE OF PACESETTER DRIVE, SAID CORNER BEING DESIGNATED POINT NUMBER 288 AND SHOWN AS SUCH ON PLAT OF SURVEY BY DAVID P. PHILLIPPE, ILLINOIS PROFESSIONAL LAND SURVEYOR 2591, DATED JULY 9, 2007 AND RECORDED AS DOCUMENT NUMBER 2007R22404 IN THE RECORDER'S OFFICE OF CHAMPAIGN COUNTY, ILLINOIS; THENCE NORTH 44 DEGREES 16 MINUTES 24 SECONDS EAST ALONG THE SOUTHEASTERLY RIGHT-OF-WAY LINE OF SAID GALAXY DRIVE, A DISTANCE OF 836.86 FEET TO AN IRON PIPE SURVEY MONUMENT SET; THENCE SOUTH 45 DEGREES 42 MINUTES 05 SECONDS EAST, A DISTANCE OF 1,351.83 FEET TO AN IRON PIPE SURVEY MONUMENT SET; THENCE SOUTH 00 DEGREES 32 MINUTES 38 SECONDS EAST, A DISTANCE OF 695.34 FEET TO AN IRON PIPE SURVEY MONUMENT SET; THENCE SOUTH 44 DEGREES 25 MINUTES 02 SECONDS WEST, A DISTANCE OF 1,225.29 FEET; THENCE NORTH 45 DEGREES 38 MINUTES 48 SECONDS WEST, A DISTANCE OF 80.00 FEET TO AN IRON PIPE SURVEY MONUMENT SET; THENCE CONTINUE NORTH 45 DEGREES 38 MINUTES 48 SECONDS WEST, A DISTANCE OF 132.22 FEET TO AN IRON PIPE SURVEY MONUMENT SET; THENCE NORTH 44 DEGREES 35 MINUTES 13 SECONDS EAST, A DISTANCE OF 306.46 FEET TO AN IRON PIPE SURVEY MONUMENT SET AT A POINT OF BEGINNING; THENCE CONTINUE NORTH 44 DEGREES 35 MINUTES 13 SECONDS EAST, A DISTANCE OF 359.47 FEET TO AN IRON PIPE SURVEY MONUMENT SET; THENCE SOUTH 61 DEGREES 03 MINUTES 57 SECONDS EAST, A DISTANCE OF 135.16 FEET TO AN IRON PIPE SURVEY MONUMENT SET; THENCE SOUTH 44 DEGREES 25 MINUTES 02 SECONDS WEST, A DISTANCE OF 395.46 FEET TO AN IRON PIPE SURVEY MONUMENT SET; THENCE NORTH 45 DEGREES 37 MINUTES 27 SECONDS WEST, A DISTANCE OF 131.32 FEET TO THE POINT OF BEGINNING, ENCOMPASSING 1.13 ACRES, MORE OR LESS, SITUATED IN THE VILLAGE OF RANTOUL, CHAMPAIGN COUNTY, ILLINOIS.

Parcel A2b-1

A TRACT OF LAND BEING PART OF SECTION 2, TOWNSHIP 21 NORTH, RANGE 9 EAST OF THE THIRD PRINCIPAL MERIDIAN, CHAMPAIGN COUNTY, ILLINOIS, DESCRIBED AS FOLLOWS, WITH BEARINGS REFERENCED TO THE ILLINOIS STATE PLANE COORDINATE SYSTEM-EAST ZONE:

COMMENCING AT THE NORTHWEST CORNER OF THE SOUTHWEST QUARTER OF SAID SECTION 2, PROCEED NORTH 89 DEGREES 38 MINUTES 35 SECONDS EAST, ALONG THE NORTH LINE OF SAID SOUTHWEST QUARTER, 507.81 FEET; THENCE SOUTH 0 DEGREES 33 MINUTES 08 SECONDS EAST, 499.98 FEET TO THE SOUTH LINE OF VETERAN'S PARKWAY; THENCE NORTH 89 DEGREES 38 MINUTES 45 SECONDS EAST ALONG SAID SOUTH LINE OF VETERAN'S PARKWAY, 950.12 FEET TO THE TRUE POINT OF BEGINNING; THENCE NORTH 89 DEGREES 38 MINUTES 45 SECONDS EAST, ALONG SAID SOUTH LINE OF VETERAN'S PARKWAY, 695.61 FEET TO THE WEST LINE OF COOK STREET; THENCE SOUTH 0 DEGREES 28 MINUTES 51 SECONDS EAST ALONG SAID WEST LINE OF COOK STREET, 152.62; THENCE NORTH 45 DEGREES 33 MINUTES 41 SECONDS WEST, 13.80 FEET; THENCE SOUTH 44 DEGREES 26 MINUTES 19 SECONDS WEST, 332.02 FEET; THENCE NORTH 45 DEGREES 33 MINUTES 41 SECONDS WEST, 380.92 FEET; THENCE SOUTH 44 DEGREES 26 MINUTES 19 SECONDS WEST, 190.00 FEET; THENCE NORTH 45 DEGREES 33 MINUTES 41 SECONDS WEST, 142.00 FEET; THENCE NORTH 44 DEGREES 26 MINUTES 19 SECONDS EAST, 140.00 FEET; THENCE NORTH 45 DEGREES 33 MINUTES 41 SECONDS WEST, 64.69 FEET TO THE TRUE POINT OF BEGINNING, ENCOMPASSING 3.754 ACRES MORE OR LESS.

Parcel A2b-3a

A TRACT OF LAND BEING PART OF SECTION 2, TOWNSHIP 21 NORTH, RANGE 9 EAST OF THE THIRD PRINCIPAL MERIDIAN, CHAMPAIGN COUNTY, ILLINOIS, DESCRIBED AS FOLLOWS, WITH BEARINGS REFERENCED TO THE ILLINOIS STATE PLANE COORDINATE SYSTEM-EAST ZONE:

COMMENCING AT THE NORTHWEST CORNER OF THE SOUTHWEST QUARTER OF SAID SECTION 2, PROCEED NORTH 89 DEGREES 38 MINUTES 35 SECONDS EAST, ALONG THE NORTH LINE OF SAID SOUTHWEST QUARTER, 507.81 FEET; THENCE SOUTH 0 DEGREES 33 MINUTES 08 SECONDS EAST, 563.08 FEET TO A POINT ON THE EAST LINE OF EAGLE DRIVE, BEING THE TRUE POINT OF BEGINNING; THENCE SOUTH 45 DEGREES 33 MINUTES 46 SECONDS EAST, 84.61 FEET; THENCE NORTH 44 DEGREES 16 MINUTES 19 SECONDS EAST, 64.00 FEET; THENCE NORTH 89 DEGREES 16 MINUTES 19 SECONDS EAST, 84.86 FEET; THENCE SOUTH 45 DEGREES 33 MINUTES 46 SECONDS EAST, 469.04 FEET; THENCE SOUTH 44 DEGREES 26 MINUTES 13 SECONDS WEST, 396.12 FEET TO THE NORTHERLY LINE OF PACESETTER DRIVE; THENCE NORTH 45 DEGREES 33 MINUTES 46 SECONDS WEST ALONG SAID NORTHERLY LINE OF PACESETTER DRIVE, 338.80 FEET TO THE EAST LINE OF EAGLE DRIVE; THENCE NORTH 0 DEGREES 33 MINUTES 08 SECONDS WEST ALONG SAID EAST LINE OF EAGLE DRIVE, 384.51 FEET TO SAID TRUE POINT OF BEGINNING, ENCOMPASSING 4.447 ACRES MORE OR LESS.

Parcel A2c-3c

BEGINNING AT AN IRON PIPE SURVEY MONUMENT FOUND AT THE INTERSECTION OF THE SOUTHEASTERLY RIGHT OF WAY OF PACESETTER DRIVE WITH THE SOUTHWESTERLY RIGHT OF WAY OF ARENDS BOULEVARD IN THE VILLAGE OF RANTOUL, CHAMPAIGN COUNTY, ILLINOIS, SAID POINT ALSO BEING THE MOST SOUTHWESTERLY CORNER OF MINOR SUBDIVISION 1; THENCE SOUTH 45 DEGREES 39 MINUTES 10 SECONDS EAST 495.44 FEET ALONG THE SOUTH RIGHT OF WAY LINE OF SAID ARENDS AVENUE; THENCE SOUTHEASTERLY 77.90 FEET ALONG SAID RIGHT OF WAY, BEING A CIRCULAR CURVE TO THE LEFT HAVING A RADIUS OF 180.00 FEET AND A CHORD OF 77.30 FEET THAT BEARS SOUTH 58 DEGREES 01 MINUTE 00 SECONDS EAST; THENCE SOUTH 44 DEGREES 24 MINUTES 27 SECONDS WEST 595.70 FEET; THENCE NORTH 46 DEGREES 00 MINUTES 25 SECONDS WEST 171.79 FEET; THENCE SOUTH 44 DEGREES 29 MINUTES 20 SECONDS WEST 105.53 FEET TO THE NORTHEASTERLY RIGHT OF WAY OF AVIATION ROAD; THENCE NORTH 45 DEGREES 32 MINUTES 50 SECONDS WEST 400.01 FEET TO THE SOUTHEASTERLY RIGHT OF WAY OF PACESETTER DRIVE; THENCE NORTH 44 DEGREES 29 MINUTES 34 SECONDS EAST 685.01 FEET ALONG SAID PACESETTER DRIVE TO THE POINT OF BEGINNING, CONTAINING 373,894 SQUARE FEET (8.583 ACRES), MORE OR LESS, ALL SITUATED IN CHAMPAIGN COUNTY, ILLINOIS.

Parcel A2c-3b

COMMENCING AT THE NORTHWEST CORNER OF SECTION 11, TOWNSHIP 21 NORTH, RANGE 9 EAST OF THE THIRD PRINCIPAL MERIDIAN; THENCE SOUTH 0 DEGREES 30 MINUTES 52 SECONDS EAST, ALONG THE WEST LINE OF THE NORTHWEST QUARTER OF SAID SECTION 11 AND THE CENTERLINE OF CENTURY BOULEVARD, 327.65 FEET TO THE CENTERLINE OF NEAL DRIVE; THENCE NORTH 89 DEGREES 26 MINUTES 00 SECONDS EAST, ALONG THE CENTERLINE OF NEAL DRIVE, 463.67 FEET TO A POINT ON THE CENTERLINE OF EAGLE DRIVE; THENCE SOUTH 0 DEGREES 31 MINUTES 45 SECONDS EAST, ALONG THE CENTERLINE OF EAGLE DRIVE, 16.79 FEET; THENCE SOUTH 66° 44′ 05″ EAST, 38.25 FEET TO POINT OF BEGINNING; THENCE CONTINUING SOUTH 66 DEGREES 44 MINUTES 05 SECONDS EAST, 205.94 FEET; THENCE NORTH 89 DEGREES 28 MINUTES 19 SECONDS EAST, 504.79 FEET TO A POINT SITUATED 40.00 FEET NORTHWEST OF THE CENTERLINE OF PACESETTER DRIVE; THENCE SOUTH 44 DEGREES 30 MINUTES 44 SECONDS WEST, ON A LINE SITUATED 40.00 FEET NORTHWEST OF AND PARALLEL WITH SAID CENTERLINE, 705.93 FEET TO A POINT SITUATED 40.00 FEET NORTH OF THE CENTERLINE OF FLESSNER AVENUE; THENCE SOUTH 89 DEGREES 27 MINUTES 44 SECONDS WEST ALONG A LINE 40.00 FEET NORTH OF AND PARALLEL WITH THE CENTERLINE OF FLESSNER AVENUE, 193.69 FEET TO A POINT SITUATED 35.00 FEET EAST OF THE CENTERLINE OF EAGLE DRIVE; THENCE NORTH 00 DEGREES 31 MINUTES 45 SECONDS WEST ALONG A LINE SITUATED 35.00 FEET EAST OF AND PARALLEL WITH SAID CENTERLINE 581.93 FEET TO THE POINT OF BEGINNING, SAID PARCEL CONTAINING 5.258 ACRES MORE OR LESS, ALL SITUATED IN CHAMPAIGN COUNTY, ILLINOIS.

Parcel A2c-7:1

BEGINNING AT THE SOUTHEAST CORNER OF CENTURY BOULEVARD AND FLESSNER AVENUE AS SHOWN AND DESCRIBED IN A QUITCLAIM DEED RECORDED AS DOCUMENT NO. 2007R22404 IN THE CHAMPAIGN COUNTY RECORDER'S OFFICE, PROCEED NORTH 89 DEGREES 26 MINUTES 26 SECONDS EAST ALONG THE SOUTH LINE OF SAID FLESSNER AVENUE, 675.63 FEET; THENCE SOUTH 45 DEGREES 32 MINUTES 38 SECONDS EAST 28.87 FEET TO THE POINT OF BEGINNING; THENCE SOUTH 45 DEGREES 32 MINUTES 38 SECONDS EAST, 233.03 FEET; THENCE SOUTH 44 DEGREES 28 MINUTES 10 SECONDS WEST, A DISTANCE OF 175.46 FEET TO A POINT ON THE NORTHERLY LINE OF PARCEL A1b-1; THENCE SOUTH 89 DEGREES 26 MINUTES 31 SECONDS WEST 70.83 FEET ALONG SAID NORTHERLY LINE OF SAID PARCEL A1b-1 AND A WEST EXTENSION OF SAID NORTHERLY LINE; THENCE NORTH 05 DEGREES 24 MINUTES 58 SECONDS EAST, 290.41 FEET; TO SAID POINT OF BEGINNING, ENCOMPASSING 0.704 ACRES MORE OR LESS.

Parcel A2c-7:2

BEGINNING AT THE SOUTHEAST CORNER OF CENTURY BOULEVARD AND FLESSNER AVENUE AS SHOWN AND DESCRIBED IN A QUITCLAIM DEED RECORDED AS DOCUMENT NO. 2007R22404 IN THE CHAMPAIGN COUNTY RECORDER'S OFFICE, PROCEED NORTH 89 DEGREES 26 MINUTES 26 SECONDS EAST ALONG THE SOUTH LINE OF SAID FLESSNER AVENUE, 525.65 FEET TO POINT OF BEGINNING; NORTH 89 DEGREES 26 MINUTES 26 SECONDS EAST 149.99 FEET; THENCE SOUTH 45 DEGREES 32 MINUTES 38 SECONDS EAST 28.87 FEET; THENCE SOUTH 05 DEGREES 24 MINUTES 58 SECONDS WEST, 290.41 FEET; THENCE SOUTH 89 DEGREES 26 MINUTES 31 SECONDS WEST, A DISTANCE OF 89.69 FEET; THENCE NORTH 56 DEGREES 34 MINUTES 16” WEST, 60.46 FEET; THENCE SOUTH 00 DEGREES 37 MINUTES 56 SECONDS EAST 275.45 FEET TO SAID POINT OF BEGINNING, ENCOMPASSING 1.08 ACRES MORE OR LESS.

Parcel A2c-3a

COMMENCING AT THE NORTHWEST CORNER OF SECTION 11, TOWNSHIP 21 NORTH, RANGE 9 EAST OF THE THIRD PRINCIPAL MERIDIAN; THENCE SOUTH 0 DEGREES 30 MINUTES 52 SECONDS EAST, ALONG THE WEST LINE OF THE NORTHWEST QUARTER OF SAID SECTION 11 AND THE CENTERLINE OF CENTURY BOULEVARD, 327.65 FEET TO THE CENTERLINE OF NEAL DRIVE; THENCE NORTH 89 DEGREES 26 MINUTES 00 SECONDS EAST, ALONG SAID CENTERLINE OF NEAL DRIVE, 50.00 FEET TO THE POINT OF BEGINNING; THENCE CONTINUING NORTH 89 DEGREES 26 MINUTES 00 SECONDS EAST, ALONG SAID CENTERLINE, 378.67 FEET TO A POINT SITUATED 35.00 WEST OF THE CENTERLINE OF EAGLE DRIVE; THENCE SOUTH 0 DEGREES 31 MINUTES 45 SECONDS EAST, ALONG A LINE 35.00 FEET WEST OF AND PARALLEL WITH SAID CENTERLINE, 614.14 FEET TO A POINT SITUATED 40.00 FEET NORTH OF THE CENTERLINE OF FLESSNER AVENUE; THENCE SOUTH 89 DEGREES 27 MINUTES 44 SECONDS WEST ALONG A LINE 40.00 FEET NORTH OF AND PARALLEL WITH THE CENTERLINE OF FLESSNER AVENUE, 378.83 FEET TO A POINT SITUATED 50.00 FEET EAST OF THE CENTERLINE OF CENTURY BOULEVARD AND THE WEST LINE OF SAID NORTHWEST QUARTER; THENCE NORTH 0 DEGREES 30 MINUTES 52 SECONDS WEST, ALONG A LINE 50 FEET EAST OF AND PARALLEL WITH SAID CENTERLINE, 612.54 FEET TO THE POINT OF BEGINNING, SAID DESCRIBED PARCEL CONTAINING 5.339 ACRES, MORE OR LESS, ALL SITUATED IN CHAMPAIGN COUNTY, ILLINOIS.

Parcels A2d-2, A2d-1 & 802

CONSISTING OF ALL OF PARCEL A2D-1, PARTS OF A2D-2, ALL OF BUILDING 802 PARCEL AND PARTS OF THE AIRFIELD AREA.

COMMENCING AT THE SOUTHWEST CORNER OF SECTION 11, TOWNSHIP 21 NORTH, RANGE 9 EAST OF THE THIRD PRINCIPAL MERIDIAN, AS RECORDED IN BOOK 1598 PAGE 897 IN THE OFFICE OF THE CHAMPAIGN COUNTY RECORDER, THENCE NORTH 00 DEGREES 31 MINUTES 49 SECONDS WEST, ALONG THE WEST LINE OF THE SOUTHWEST QUARTER OF SAID SECTION 11 AND THE CENTERLINE OF CENTURY BOULEVARD, 179.73 FEET; THENCE NORTH 89 DEGREES 28 MINUTES 11 SECONDS EAST, PERPENDICULAR TO SAID WEST LINE, 50.00 FEET TO THE INTERSECTION OF THE NORTH RIGHT-OF-WAY LINE OF CHANDLER ROAD AND THE EAST RIGHT-OF-WAY LINE OF CENTURY BOULEVARD AND THE POINT OF BEGINNING; THENCE NORTH 00 DEGREES 31 MINUTES 49 SECONDS WEST, PARALLEL WITH SAID WEST LINE, ALONG SAID EAST RIGHT-OF-WAY LINE, 2283.81 FEET; THENCE NORTH 89 DEGREES 36 MINUTES 36 SECONDS EAST, 1242.33 FEET; THENCE SOUTH 00 DEGREES 41 MINUTES 55 SECONDS EAST 803.97 FEET; THENCE SOUTH 07 DEGREES 40 MINUTES 28 SECONDS EAST, 343.34 FEET; THENCE SOUTH 00 DEGREES 37 MINUTES 26 SECONDS EAST 1143.44 FEET TO THE NORTH RIGHT OF WAY OF CHANDLER ROAD; THENCE SOUTH 89 DEGREES 47 MINUTES 40 SECONDS WEST 1289.28 FEET TO THE POINT OF BEGINNING, SAID PARCEL CONTAINING 66.65 ACRES, MORE OR LESS, ALL SITUATED IN CHAMPAIGN COUNTY, ILLINOIS.

Issued in Des Plaines, IL on September 12, 2024.
Robert J Esquivel,
Acting Manager, Chicago Airports District Office, FAA, Great Lakes Region.

[FR Doc. 2024-21142 Filed 9-17-24; 8:45 am]

BILLING CODE 4910-13-P